DEPARTMENT OF DEFENSE

Department of the Army

[Docket ID: USA-2019-HQ-0006]

Proposed Collection; Comment Request

AGENCY: Department of the Army, DoD.

ACTION: Information collection notice.

SUMMARY: In compliance with the Paperwork Reduction Act of 1995, the United States Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 15, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Corps of Engineers, Directorate of Civil Works, Office of Planning and Policy, ATTN: Jeff Strahan, 441 G Street, Washington, DC 20314, or call 202-761-8643.

SUPPLEMENTARY INFORMATION:

Title; Associated Form; and OMB Number: Corps of Engineers Flood Risk Management Surveys; OMB Control Number 0710-0017.

Needs and Uses: The data obtained from these surveys are used by the Army Corps of Engineers to more effectively provide flood risk management to communities, residents, and businesses at risk of flooding. The data are needed for estimating damage relationships for factors such as depth of flooding for different types of buildings and different occupancies of uses. The data are also used for estimating other costs of flooding. Results of surveys will help communities to better determine and communicate their flood risks. The models are also used for programmatic evaluation of the Corps' National Flood Risk Management Program.

Affected Public: Residents, property owners, business, nongovernmental organizations, Local Governments.

Annual Burden Hours: 1,825 hours.

Number of Respondents: 3,000.

Responses per Respondent: 1.

Annual Responses: 3,000.

Average Burden per Response: 36.5 minutes.

Frequency: On occasion.

Respondents are floodplain residents, business owners and managers, managers of private institutions, and public officials. Most of the respondents live in or manage facilities that have been flooded in recent months.

Dated: February 7, 2019.
Shelly E. Finke,
Alternate OSD Federal Register, Liaison Officer, Department of Defense.

[FR Doc. 2019-02064 Filed 2-11-19; 8:45 am]

BILLING CODE 3710-08-P